FEDERAL RETIREMENT THRIFT INVESTMENT BOARD

Sunshine Act; Notice of Meeting

TIME AND DATE: 9:00 a.m. December 16, 2013.

PLACE: 10th Floor Board Meeting Room, 77 K Street NE., Washington, DC 20002.

STATUS: Parts will be open to the public and parts closed to the public.

MATTERS TO BE CONSIDERED:

Parts Open to the Public

1. Approval of the Minutes of the November 25, 2013 Board Member Meeting

2. Thrift Savings Plan Activity Reports by the Executive Director

a. Monthly Participant Activity Report

b. Monthly Investment Policy Report

c. Legislative Report

3. L Fund Default

4. OPOP Report

5. Financial Auditor Contract

6. OGC Report

7. 2014 Board Calendar

Parts Closed to the Public

1. Litigation Update

2. Personnel

CONTACT PERSON FOR MORE INFORMATION: Kimberly Weaver, Director, Office of External Affairs, (202) 942-1640.

Dated: December 6, 2013.
James B. Petrick,
Secretary, Federal Retirement Thrift Investment Board.

[FR Doc. 2013-29552 Filed 12-6-13; 4:15 pm]

BILLING CODE 6760-01-P